DEPARTMENT OF HOMELAND SECURITY

Federal Emergency Management Agency

44 CFR Part 9

[Docket ID FEMA-2023-0026]

RIN 1660-AB12

Updates to Floodplain Management and Protection of Wetlands Regulations To Implement the Federal Flood Risk Management Standard; Correction

AGENCY: Federal Emergency Management Agency, Department of Homeland Security.

ACTION: Final rule; correcting amendment.

SUMMARY: On July 11, 2024, the Federal Emergency Management Agency (FEMA) published a final rule implementing the Federal Flood Risk Management Standard (FFRMS), updating the agency's 8-step decision-making process for floodplain reviews by changing how FEMA defines a floodplain with respect to certain actions and how FEMA uses natural systems, ecosystem processes, and nature-based approaches when developing alternatives to locating a proposed action in the floodplain. The rule contained two errors which this document corrects.

DATES: This rule is effective October 10, 2024 and is applicable beginning September 9, 2024.

FOR FURTHER INFORMATION CONTACT: Portia Ross, Policy and Integration Division Director, Office of Environmental Planning and Historic Preservation, Resilience, DHS/FEMA, 400 C St. SW, Suite 313, Washington, DC 20472-3020. Phone: (202) 709-0677; Email: fema-regulations@fema.dhs.gov.

SUPPLEMENTARY INFORMATION: On July 11, 2024, at 89 FR 56929, FEMA published a final rule implementing the FFRMS. The rule contained two errors. The first error is typographical, capitalizing a word in a defined term in § 9.4 which should be lowercased. The second error is a procedural error in the instruction and text for the amendment to § 9.9. Paragraph (d) was instructed to be fully revised, but the full paragraph was not presented in the amendatory text. This document corrects both errors.

List of Subjects in 44 CFR Part 9

Floodplains, Reporting and recordkeeping requirements.

For the reasons discussed in the preamble, the Federal Emergency Management Agency (FEMA) is amending 44 CFR part 9 by making the following correcting amendments.

PART 9—FLOODPLAIN MANAGEMENT AND PROTECTION OF WETLANDS

1. The authority citation for part 9 continues to read as follows:

Authority: 6 U.S.C. 101 et seq.; 42 U.S.C. 4001 et seq.; 42 U.S.C. 4321 et seq.; E.O. 11988 of May 24, 1977, 42 FR 26951, 3 CFR, 1977 Comp., p. 117; E.O. 11990 of May 24, 1977, 42 FR 26961, 3 CFR, 1977 Comp. p. 121; E.O. 13690, 80 FR 6425; E.O. 14030, 86 FR 27967.

§ 9.4 [Corrected]

2. Correct § 9.4 in the definition of “0.2 Percent annual chance floodplain” by removing “Percent” and adding “percent” in its place.

3. Correct § 9.9 by removing paragraphs (1) and (2) following paragraph (c)(5) and adding paragraph (d) in their place.

The addition reads as follows:

§ 9.9 Analysis and reevaluation of practicable alternatives.

* * * * *

(d) Action following the analysis of practicable alternatives. (1) The Agency shall not locate the proposed action in the floodplain as established by § 9.7(c) or in a wetland if a practicable alternative exists outside the floodplain or wetland.

(2) If no practicable alternative exists outside the floodplain or wetland, in order to carry out the action the floodplain or wetland must itself be a practicable location in light of the review required in this section.

* * * * *

Deanne Criswell,
Administrator, Federal Emergency Management Agency.

[FR Doc. 2024-23397 Filed 10-9-24; 8:45 am]

BILLING CODE 9111-66-P